ENVIRONMENTAL PROTECTION AGENCY

[PF-935; FRL-6553-2]

Notice of Filing a Pesticide Petition to Establish a Tolerance for Certain Pesticide Chemicals in or on Food

AGENCY: Environmental Protection Agency (EPA).

ACTION: Notice.

SUMMARY: This notice announces the initial filing of a pesticide petition proposing the establishment of regulations for residues of certain pesticide chemicals in or on various food commodities.

DATES: Comments, identified by docket control number PF-935, must be received on or before June 2, 2000.

ADDRESSES: Comments may be submitted by mail, electronically, or in person. Please follow the detailed instructions for each method as provided in Unit I.C. of the “SUPPLEMENTARY INFORMATION.” To ensure proper receipt by EPA, it is imperative that you identify docket control number PF-935 in the subject line on the first page of your response.

FOR FURTHER INFORMATION CONTACT: By mail: Linda Hollis, EPA Biopesticides and Pollution Prevention Division (7505C), Office of Pesticide Programs, Environmental Protection Agency, Ariel Rios Bldg., 1200 Pennsylvania Ave., NW., Washington, DC 20460; telephone number: (703) 308-8733; e-mail address: hollis.linda@epa.gov.

SUPPLEMENTARY INFORMATION:

I. General Information

A. Does this Action Apply to Me?

You may be affected by this action if you are an agricultural producer, food manufacturer or pesticide manufacturer. Potentially affected categories and entities may include, but are not limited to:

Categories | NAICS codes | Examples of potentially affected entities
Industry | 111 | Crop production
| 112 | Animal production
| 311 | Food manufacturing
| 32532 | Pesticide manufacturing

This listing is not intended to be exhaustive, but rather provides a guide for readers regarding entities likely to be affected by this action. Other types of entities not listed in the table could also be affected. The North American Industrial Classification System (NAICS) codes have been provided to assist you and others in determining whether or not this action might apply to certain entities. If you have questions regarding the applicability of this action to a particular entity, consult the person listed under “FOR FURTHER INFORMATION CONTACT.”

B. How Can I Get Additional Information, Including Copies of this Document and Other Related Documents?

1. Electronically. You may obtain electronic copies of this document, and certain other related documents that might be available electronically, from the EPA Internet Home Page at http://www.epa.gov/. To access this document, on the Home Page select “Laws and Regulations” and then look up the entry for this document under the “Federal Register—Environmental Documents.” You can also go directly to the Federal Register listings at http://www.epa.gov/fedrgstr/.

2. In person. The Agency has established an official record for this action under docket control number PF-935. The official record consists of the documents specifically referenced in this action, any public comments received during an applicable comment period, and other information related to this action, including any information claimed as confidential business information (CBI). This official record includes the documents that are physically located in the docket, as well as the documents that are referenced in those documents. The public version of the official record does not include any information claimed as CBI. The public version of the official record, which includes printed, paper versions of any electronic comments submitted during an applicable comment period, is available for inspection in the Public Information and Records Integrity Branch (PIRIB), Rm. 119, Crystal Mall #2, 1921 Jefferson Davis Highway, Arlington, VA, from 8:30 a.m. to 4 p.m., Monday through Friday, excluding legal holidays. The PIRIB telephone number is (703) 305-5805.

C. How and to Whom Do I Submit Comments?

You may submit comments through the mail, in person, or electronically. To ensure proper receipt by EPA, it is imperative that you identify docket control number PF-935 in the subject line on the first page of your response.

1. By mail. Submit your comments to: Public Information and Records Integrity Branch (PIRIB), Information Resources and Services Division (7502C), Office of Pesticide Programs (OPP), Environmental Protection Agency, Ariel Rios Bldg., 1200 Pennsylvania Ave., NW., Washington, DC 20460.

2. In person or by courier. Deliver your comments to: Public Information and Records Integrity Branch (PIRIB), Information Resources and Services Division (7502C), Office of Pesticide Programs (OPP), Environmental Protection Agency, Rm. 119, Crystal Mall #2, 1921 Jefferson Davis Highway, Arlington, VA. The PIRIB is open from 8:30 a.m. to 4 p.m., Monday through Friday, excluding legal holidays. The PIRIB telephone number is (703) 305-5805.

3. Electronically. You may submit your comments electronically by e-mail to: “opp-docket@epa.gov,” or you can submit a computer disk as described above. Do not submit any information electronically that you consider to be CBI. Avoid the use of special characters and any form of encryption. Electronic submissions will be accepted in Wordperfect 6.1/8.0 or ASCII file format. All comments in electronic form must be identified by docket control number PF-935. Electronic comments may also be filed online at many Federal Depository Libraries.

D. How Should I Handle CBI That I Want to Submit to the Agency?

Do not submit any information electronically that you consider to be CBI. You may claim information that you submit to EPA in response to this document as CBI by marking any part or all of that information as CBI. Information so marked will not be disclosed except in accordance with procedures set forth in 40 CFR part 2. In addition to one complete version of the comment that includes any information claimed as CBI, a copy of the comment that does not contain the information claimed as CBI must be submitted for inclusion in the public version of the official record. Information not marked confidential will be included in the public version of the official record without prior notice. If you have any questions about CBI or the procedures for claiming CBI, please consult the person identified under “FOR FURTHER INFORMATION CONTACT.”

E. What Should I Consider as I Prepare My Comments for EPA?

You may find the following suggestions helpful for preparing your comments:

1. Explain your views as clearly as possible.

2. Describe any assumptions that you used.

3. Provide copies of any technical information and/or data you used that support your views.

4. If you estimate potential burden or costs, explain how you arrived at the estimate that you provide.

5. Provide specific examples to illustrate your concerns.

6. Make sure to submit your comments by the deadline in this notice.

7. To ensure proper receipt by EPA, be sure to identify the docket control number assigned to this action in the subject line on the first page of your response. You may also provide the name, date, and Federal Register citation.

II. What Action is the Agency Taking?

EPA has received a pesticide petitions as follows proposing the establishment and/or amendment of regulations for residues of certain pesticide chemicals in or on various food commodities under section 408 of the Federal Food, Drug, and Comestic Act (FFDCA), 21 U.S.C. 346a. EPA has determined that these petitions contain data or information regarding the elements set forth in section 408(d)(2); however, EPA has not fully evaluated the sufficiency of the submitted data at this time or whether the data support granting of the petitions. Additional data may be needed before EPA rules on the petitions.

List of Subjects

Environmental protection, Agricultural commodities, Feed additives, Food additives, Pesticides and pests, Reporting and recordkeeping requirements.

Dated: April 21, 2000.
Kathleen D. Knox,
Acting Director, Biopesticides and Pollution Prevention Division, Office of Pesticide Programs.

Summaries of Petitions

The petitioner summaries of the pesticide petitions are printed below as required by section 408(d)(3) of the FFDCA. The summaries of the petitions were prepared by the petitioners and represent the view of the petitioners. The petition summaries announce the availability of a description of the analytical methods available to EPA for the detection and measurement of the pesticide chemical residues or an explanation of why no such method is needed.

I. AgriPhi, Inc.

OF6111

EPA has received pesticide petition 0F6111 from AgriPhi, Inc., P.O. Box 4296, Logan, UT 84323-4296, proposing pursuant to section 408(d) of the Federal Food, Drug, and Cosmetic Act (FFDCA), 21 U.S.C. 346a(d), to amend 40 CFR part 180 by establishing a tolerance for residues of the microbial pesticide bacteriophages.

Pursuant to section 408(d)(2)(A)(i) of the FFDCA, as amended, AgriPhi, Inc. has submitted the following summary of information, data, and arguments in support of their pesticide petition. This summary was prepared by AgriPhi, Inc. and EPA has not fully evaluated the merits of the pesticide petition. The summary may have been edited by EPA if the terminology used was unclear, the summary contained extraneous material, or the summary unintentionally made the reader conclude that the findings reflected EPA's position and not the position of the petitioner.

A. Product Name and Proposed Use Practices

AgriPHAGE is for the treatment of bacterial plant diseases, for example, bacterial spot in tomato and pepper and bacterial speck in tomato.

B. Product Identity/Chemistry

1. Identity of the pesticide and corresponding residues. The major component of AgriPHAGE is water (>96%). Active ingredient, bacteriophages (phages), isolated from plant debris or soil is less than 2%. Remaining culture media ingredients are food grade such as peptone and brewer's yeast. Phages are inactivated within 24-48 hours after application to plants or soil. Inactivated phages are biodegradable and broken down by hydrolases secreted from soil flora or animals including humans. End products are recycled as nutrients for soil inhabitants, both animals and plants. No residue remains in the environment or on harvested fruit.

2. Magnitude of residue at the time of harvest and method used to determine the residue. Remaining culture media ingredients are food grade such as peptone and brewer's yeasts. Phages are inactivated within 24-48 hours after application to plants or soil.

3. Analytical method. Phages are inactivated within 24-48 hours after application to plants or soil. Inactivated phages are biodegradable and broken down by hydrolases secreted from soil flora or animals to include humans. End products are recycled as nutrients for soil inhabitants, both animals and plants. No residue in the environment or on harvested fruit.

C. Mammalian Toxicological Profile

Phages are ubiquitous, naturally-occurring entities found in soil, water, and in association with animals, including humans, and plants. The specific mode of action of the active component of AgriPHAGE mixtures is such that these bactericides are effective only against the bacterial pathogens which is target. Phages are species-specific, and do not attack other beneficial soil bacteria. There is no evidence for non-selective infection. Thus, non-target organisms, such as fish and wildlife are not affected.

D. Aggregate Exposure

1. Dietary exposure—i. Food. Humans and other animals consume phages when they eat food. For example, humans ingest phages when they eat raw produce. For example, 1,000 (10³) to 5 x 10⁵ phages can be isolated routinely per gram (g) of high quality cheese. Pathogenic microorganisms are often found in foods; therefore, it is not surprising that E. coli and coliphages have been found in 11 of 12 foods purchased at retail markets. Ten purchases of each of the 12 foods were made. All 10 of fresh ground beef purchases were contaminated with E. coli, and all 10 contained coliphages. In addition to ground beef, E. coli and coliphages were found in fresh chicken, fresh pork, fresh oyster, fresh mushrooms, lettuce, chicken pot pie, biscuit dough, deli loaf, deli roasted turkey and package roasted chicken. Another example of phages in food has been Propionibacterium freundenreichii phage found in a concentration as high as 1.4 x 10⁶/gm of swiss cheese.

ii. Drinking water. Animals are exposed daily to phages in water. Up to 2.5 x 10⁸ phages/mL have been found in a natural unpolluted Norwegian lake. Investigators estimated that as much as one-third of bacterial population could experience a phage attack each day. Without viruses to keep some microbial growth under control, microbes could have devastating effects on the environment.

2. Non-dietary exposure. 4.0 x 10⁷ infectious phage PFU/gm of soil using Bacillus stearothermophilus as a host have been reported.

E. Cumulative Exposure

Since phages are ubiquitous, naturally-occurring entities found in soil, water and in association with animals, including humans and plants and the fact that phages are inactived within 24-48 hours after application and the inactivated phages are biodegradable, no cumulative exposure with other compounds is expected.

F. Safety Determination

1. U.S. population. Phages have been used as therapuetic agents and are active against bacteria of many human diseases such as anthrax, bronchitis, diarrhea, scarlet fever, typhus, cholera, diphtheria, gonorrhea, paratyphus, bubonic plague, and osteomyelitis.

Hundreds of millions of persons have received live virus vaccines contaminated with phages. Contamination was found in polio, measles, mumps, and rubella vaccines. Recipients of contaminated vaccines showed no evidence of adverse reactions to phages. Because of concern about safety of phage contaminated vaccines, isolated phages from a vaccine, cultured to high titers and injected into 6-8 week old monkeys showed no adverse effects. Therefore, it is concluded that phage contaminating vaccines for humans posed no real threat to public health.

2. Infants and children. Phages have been used as therapuetic agents and are active against bacteria of many human diseases such as anthrax, bronchitis, diarrhea, scarlet fever, typhus, cholera, diptheria, gonorrhea, paratyphus, bubonic plague, and osteomyelitis.

Hundreds of millions of persons have received live virus vaccines contaminated with phages. Contamination was found in polio, measles, mumps, and rubella vaccines. Recipients of contaminated vaccines showed no evidence of adverse reactions to phages. Because of concern about safety of phage contaminated vaccines, isolated phages from a vaccine, cultured to high titers and injected into 6-8 week old monkeys showed no adverse effects. Therefore, it is concluded that phage contaminating vaccines for humans posed no real threat to public health.

G. Effects on the Immune and Endocrine Systems

Phages have been used as therapuetic agents and are active against bacteria of many human diseases such as anthrax, bronchitis, diarrhea, scarlet fever, typhus, cholera, diptheria, gonorrhea, paratyphus, bubonic plague, and osteomyelitis.

Hundreds of millions of persons have received live virus vaccines contaminated with phages. Contamination was found in polio, measles, mumps, and rubella vaccines. Recipients of contaminated vaccines showed no evidence of adverse reactions to phages. Because of concern about safety of phage contaminated vaccines, isolated phages from a vaccine, cultured to high titers and injected into 6-8 week old monkeys showed no adverse effects. Therefore, it is concluded that phage contaminating vaccines for humans posed no real threat to public health.

H. Existing Tolerances

There are no existing tolerances for bacteriophages.

I. International Tolerances

There are no known International Tolerances for bacteriophages.

II. Monsanto Company

PP 0E6066

EPA has received a pesticide petition PP 0E6066 from Monsanto Company, 700 Chesterfield Parkway North, St. Louis, MO 63198, proposing pursuant to section 408(d) of the FFDCA, 21 U.S.C. 346a(d), to amend 40 CFR part 180 to establish an exemption from the requirement of a tolerance for the plant pesticide β-D-glucuronidase (GUS) as a plant-incorporated protectant formulation inert ingredient, as expressed in plants in or on all raw agricultural commodities.

Pursuant to section 408(d)(2)(A)(i) of the FFDCA, as amended, Monsanto Company has submitted the following summary of information, data, and arguments in support of their pesticide petition. This summary was prepared by Monsanto Company and EPA has not fully evaluated the merits of the pesticide petition. The summary may have been edited by EPA if the terminology used was unclear, the summary contained extraneous material, or the summary unintentionally made the reader conclude that the findings reflected EPA's position and not the position of the petitioner.

A. Product Name and Proposed Use Practices

β-D-glucuronidase (GUS) is proposed for use as a plant-incorporated protectant formulation inert ingredient. The GUS protein belongs to Family 2 of glycosyl hydrolases and catalyzes the hydrolysis of a range of glycosides, including p-nitrophenyl-β-D-glucuronide, a chemical which is not naturally occurring. When added to the plant, hydrolysis of this chromogenic compound releases a blue dye that functions as a visible scorable marker in plant transformation processes. The glucuronide conjugation activity of this protein has been thoroughly studied and the protein is widely prevalent in plants and microbes. GUS has no pesticidal activity.

B. Product Identity/Chemistry

1. Identity of the pesticide and corresponding residues. The β-D-glucuronidase gene, uidA, also known as gus or gusA gene, is derived from Escherichia coli strain K12. This gene encodes for the protein β-D-glucuronidase (GUS). The E. coli-derived GUS protein expressed by genetically modified plants is 99.8% homologous and functionally equivalent to the native E. coli GUS protein. This change does not negatively affect the enzymatic activity of the protein. The plant-produced GUS protein is essentially equivalent to the native GUS protein, as determined by comparable molecular weights, immunoreactivity, amino acid sequences enzymatic activity. The GUS protein was originally isolated from E. coli present in mammals. E. coli is ubiquitous in the digestive systems of vertebrates, including humans, where primary glucuronidation functions in the liver. GUS is present in beef and in a number of invertebrate species, including nematodes, molluscs, snails, and insects. GUS activity has also been detected in over 50 plant species and in various tissues including embryo, fruit, seed coat and endosperm. These species include a number of human food sources, including potato, apple, almond, rye, rhubarb, and sugar beet.

2. Magnitude of residue at the time of harvest and method used to determine the residue. A validated enzyme-linked immunosorbent Assay (ELISA) was performed to estimate the GUS protein levels in cotton leaf and seed tissue samples. Samples were collected from eight field locations in the United States during 1998 field trials. These field sites provided a variety of environmental conditions representative of regions where cotton is grown commercially. Mean cottonseed tissue levels of GUS protein in the two events ranged from 58.78 μ/g to 137.57 μ/g.

3. Analytical method. Monsanto is requesting an exemption from the requirement of a tolerance and has also requested that the requirements for residue data be waived for GUS protein in all raw agricultural products. Analytical methods for the detection and measurement of the GUS protein are therefore not necessary.

C. Mammalian Toxicological Profile

The mammalian health and safety of the GUS protein is based on a history of safe consumption by mammals, animal toxicity testing of the native GUS protein, and results of in vitro and in vivo studies of the protein expressed in plants. The history of safe use of the GUS protein is extensive. Exposure of humans to the GUS protein is commonplace through intestinal epithelial cells and intestinal microflora, bacterial exposure and in numerous foods containing the GUS protein with no known harmful effects. Previous feeding studies in humans and animals with large doses of E. coli strain K12 have also demonstrated the safety of the GUS protein, since no adverse effects were observed. In vitro and in vivo studies of the GUS protein derived from plants were conducted to confirm the safety of the protein; these studies included digestion in simulated gastric and intestinal fluids, an acute oral mouse toxicity study, and sequence homology studies on the GUS protein relative to proteins of toxicologic or allergenic concern. The GUS protein degraded rapidly when added to simulated gastric and intestinal fluids (SGF and SIF), which simulate human digestion, as assessed by both western blot analysis and enzymatic activity assays. Within 15 seconds of exposure to SGF, GUS protein was not detectable by western blot or enzymatic activity. After 2 hours in SIF, the protein had lost approximately 91% of its original enzymatic activity. Based on these results, it is concluded that the GUS protein, if ingested by humans, will readily degrade in the digestive tract where GUS protein is naturally present.

Acute administration was considered appropriate to assess the safety of GUS, since proteins that are toxic typically act via acute mechanisms. The GUS protein used in this evaluation was over-produced and purified from Escherichia coli, characterized and administered by gavage to mice in an acute toxicity test at doses of 0, 0.69, 6.9, and 69 mg/kg body weight. There were no treatment-related adverse effects in mice administered GUS protein by oral gavage at the highest dose tested. These results demonstrated that the GUS protein is non-toxic to mice. Previous feeding studies with large doses of Escherichia coli strain K12 containing GUS in humans and animals have also demonstrated the safety of the GUS protein since no adverse effects were observed.

Although large quantities of a variety of proteins are consumed by humans each day, rarely do any of these tens of thousands of proteins elicit an allergenic response. Although there are no predictive assays available to assess the allergenic potential of proteins, the physicochemical profile of the protein provides a basis for assessing the allergenicity by comparing them to known protein allergens. A key parameter contributing to the allergenicity of food allergens appears to be stability to gastrointestinal digestion, especially stability to acid proteases like pepsin found in the stomach. Protein allergens must be stable to the peptic digestion and the acid conditions of the stomach system if they are to reach and pass through the intestinal mucosa where an immune response can be initiated. GUS is rapidly digested in SGF/SIF. Another significant factor contributing to the allergenicity of proteins is their high concentrations in foods that elicit an allergenic response. The uidA gene was not obtained from a source known to be allergenic or toxic. To confirm the lack of any allergenic or toxic effects of the GUS protein as shown by the history of safe consumption, the GUS protein sequence was compared to the sequences of proteins relevant to mammalian safety. Data bases of protein sequences associated with allergy, coeliac disease and toxicity were assembled from publicly available genetic data bases (Genbank, EMBL, PIR and SwissProt). The amino acid sequence of the GUS protein was compared using the FASTA sequence alignment tool. The GUS protein showed no structural homology to proteins relevant to human health.

Therefore, the GUS protein has been demonstrated to be safe for consumption by both humans and animals by the natural occurrence of the GUS protein in the human gut and other organisms, including foods; mammalian safety as determined in toxicity studies of E. coli; rapid digestion in simulated gastric and intestinal fluids; lack of acute toxicity in mice; lack of allergenic potential and lack of homology with any known protein toxins.

The genetic material necessary for the production of GUS as an inert ingredient are the nucleic acids (DNA) which comprise genetic material encoding this protein and its regulatory regions. “Regulatory regions” are the genetic material that control the expression of the genetic material encoding the protein, such as promoters, terminators and enhancers. DNA is common to all forms of plant and animal life and the Agency has previously stated that they are not aware of an instance where these nucleic acids have been associated with toxic effects related to their consumption as a component of food. These ubiquitous nucleic acids, as they appear in the subject inert ingredient, have been adequately characterized. Therefore, no mammalian toxicity is anticipated from dietary exposure to the genetic material necessary for the production of the subject inert plant pesticidal ingredient.

D. Aggregate Exposure

1. Dietary exposure—i. Food. The functional activity of the GUS protein has been thoroughly studied and the protein is present in a number of animals, plants and microbes. Considering that GUS is already present in both the environment and food, the presence of the GUS protein in transgenic plants is unlikely to pose additional health concerns for humans or animals. Additionally, the in vitro digestive fate data demonstrate that the protein is likely degraded by stomach digestion prior to passage to the intestinal tract. Finally, the GUS protein is degraded upon heating and looses its functional activity.

ii. Drinking water. Transfer of the GUS protein to drinking water from genetically modified crops is highly unlikely given containment of the protein in plant cells and natural degradation upon plant senescence. However, if it were to occur, the levels would be insignificant compared to the levels of GUS protein produced by bacteria known to inhabit natural waters.

2. Non-dietary exposure. Occupational exposure is anticipated to be minimal during handling, storage, transportation or disposal of transgenic plants containing the GUS protein, since the protein is contained within the cells of the plant. This containment also results in a lack of volatilization or movement.

E. Cumulative Exposure

GUS belongs to a category of non-toxic proteinaceous substances that are not known to produce toxicological effects. The presence of the GUS protein in animals, plants and bacteria demonstrated a history of safe consumption of the protein in human food and animal feed supplies. Because there is no indication of mammalian toxicity caused by the GUS protein, there are no cumulative effects expected.

F. Safety Determination

1. U.S. population. The toxicity profile for the GUS protein indicates essentially no risk from exposure to the overall U.S. population. Therefore, there is a reasonable certainty that no harm will result from aggregate exposure of the U.S. population, including infants and children, to the GUS protein and the genetic material necessary for its production. This includes all anticipated dietary exposures and all other exposures for which there is reliable information.

2. Infants and children. The functional activity of this protein has been thoroughly studied and the protein is present in plants, animals and microbes. Considering the widespread exposure to GUS, additional food sources containing the GUS protein are unlikely to pose health concerns for humans or animals, including infants and children. This is supported by a history of safe consumption of the GUS protein naturally occurring in food and confirmed by the lack of toxic effects in an acute mouse gavage study.

G. Effects on the Immune and Endocrine Systems

No instances are known or reported of adverse reproductive or developmental effects to humans, domestic animals or wildlife as a result of exposure to the GUS protein or the microbial source of the uidA gene, Escherichia coli. The functional activity of this protein has been thoroughly studied and there is no known toxicological activity associated with this protein. Enzyme proteins are not known to interact or bind directly with the estrogen receptor, which would be necessary to produce endocrine effects. Further, there is little opportunity for systematic absorption of the GUS protein due to degradation upon heating and by digestive enzymes.

H. Existing Tolerances

The registrant is not aware of any tolerances established for residues of GUS in raw agricultural commodities and or processed food/feed.

I. International Tolerances

The registrant is not aware of any Maximum Residue Levels (MRLs) established for GUS by the Codex Alimentarius Commission (CODEX).

[FR Doc. 00-11033 Filed 5-2-00; 8:45 am]

BILLING CODE 6560-50-F